DEPARTMENT OF THE TREASURY

Submission for OMB Review; Comment Request

April 19, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before May 26, 2006 to be assured of consideration.

Financial Crimes Enforcement Network (FinCEN)

OMB Number: 1506-0006.

Type of Review: Revision.

Title: Suspicious Activity Report by Casinos and Card Clubs.

Form: FinCEN form 102.

Description: Under 31 CFR 103.21, the Treasury is requiring casinos and card clubs with annual gaming revenue of more than $1,000,000 to report suspicious activities.

Respondents: Business or other for-profit; and State, Local or Tribal Government.

Estimated Total Reporting Burden: 30,500 hours.

Clearance Officer: Russell Stephenson, (202) 354-6012, Department of the Treasury, Financial Crimes Enforcement Network, P.O. Box 39, Vienna, VA 22183.

OMB Reviewer: Alexander T. Hunt, (202) 395-7316, Office of Management and Budget, Room 10235, New Executive Office Building, Washington, DC 20503.

Michael A. Robinson,
Treasury PRA Clearance Officer.

[FR Doc. E6-6220 Filed 4-25-06; 8:45 am]

BILLING CODE 4810-02-P